U.S.-CHINA ECONOMIC AND SECURITY REVIEW COMMISSION

Notice of Open Public Hearing; Correction

AGENCY: U.S.-China Economic and Security Review Commission.

ACTION: Notice; correction.

SUMMARY: The U.S.-China Commission published a document in the Federal Register on November 4, 2015, concerning notice of the official public release of the Commission's 2015 Annual Report to Congress on November 18, 2015. The meeting location and time is now available.

FOR FURTHER INFORMATION CONTACT: Anthony DeMarino, 202-624-1496.

Correction

In the Federal Register of November 4, 2015, in FR Doc. 2015-28055 on page 68385, in the second column, correct the “Location, Date and Time” caption to read:

Dates, Times, and Room Locations: Wednesday, November 18, 2015 (9 a.m. to 10 a.m. EST). Location: Dirksen Senate Office Building Room 106. Please check our Web site, www.uscc.gov, for possible changes to the public meeting and for information on the meeting location.

Dated: November 4, 2015.
Michael Danis,
Executive Director, U.S.-China Economic and Security Review Commission.

[FR Doc. 2015-28517 Filed 11-12-15; 8:45 am]

BILLING CODE 1137-00-P